DEPARTMENT OF TRANSPORTATION

Pipeline and Hazardous Materials Safety Administration

[Docket No. PHMSA-2021-0123]

Pipeline Safety: Informational Webinar Addressing Inspection of Operators' Plans To Eliminate Hazardous Leaks, Minimize Releases of Methane, and Remediate or Replace Leak-Prone Pipe

AGENCY: Pipeline and Hazardous Materials Safety Administration (PHMSA), DOT.

ACTION: Notice of public informational webinar.

SUMMARY: This notice announces a public informational webinar on the scope of Section 114 of the Protecting our Infrastructure of Pipelines and Enhancing Safety Act of 2020 (PIPES Act of 2020). The webinar will also cover PHMSA and state inspection plans to ensure compliance of operators' inspection and maintenance procedures to eliminate hazardous leaks, minimizes releases of methane (the predominant component of natural gas), and the replacement or remediation of facilities known to leak.

DATES: The informational public webinar will be held on February 17, 2022, from 10:30 a.m. until 6:00 p.m., ET. Members of the public who wish to attend this webinar must register no later than February 11, 2022. Individuals requiring accommodations, such as sign language interpretation or other aids, are asked to notify PHMSA no later than February 11, 2022. For additional information, please see the ADDRESSES section of this notice.

ADDRESSES: The informational public webinar will be held virtually. The agenda and instructions on how to attend will be available on the meeting website at https://primis.phmsa.dot.gov/meetings/MtgHome.mtg?mkey=0913558304&mtg=159 once they are finalized.

Presentations from the informational public webinar will be available on the meeting website no later than 5 business days following the webinar.

FOR FURTHER INFORMATION CONTACT: Byron Coy, Senior Technical Advisor, Program Development Division, by phone at (609) 771-7810 or by email at byron.coy@dot.gov.

SUPPLEMENTARY INFORMATION:

I. Background

The mission of PHMSA is to protect people and the environment by advancing the safe transportation of energy products and other hazardous materials that are essential to our daily lives. PHMSA's mission includes prevention of the release of natural gas that can release methane into the atmosphere. According to the U.S. Environmental Protection Agency, methane is a potent greenhouse gas with a global warming potential (GWP) of 28-36 times greater than that of carbon dioxide over a 100-year period. Compared to carbon dioxide, methane gas has a stronger warming effect, but a shorter lifespan in the atmosphere. Due to the high GWP, minimizing releases of methane (both fugitive and vented emissions) has near-term benefits to mitigating the consequences of climate change. Likewise, remediation or replacement of pipeline facilities that are known to leak based on material, design, or past operating and maintenance history can result in enhanced public safety, environmental protection, and economic benefits.

The PIPES Act of 2020 (Pub. L. 116-260, Division R) was signed into law on December 27, 2020. This law contains several provisions that specifically address the elimination of hazardous leaks and minimization of releases of natural gas from pipeline facilities. Section 114(b) of the PIPES Act of 2020 contains self-executing provisions that apply directly to pipeline operators. This section requires each pipeline operator to update its inspection and maintenance plan required under 49 U.S.C. 60108(a) no later than one year after the date of enactment of the PIPES Act of 2020 (i.e., by December 27, 2021) to address the elimination of hazardous leaks and minimization of releases of natural gas (including, and not limited to, intentional venting during normal operations and maintenance) from the operators' pipeline facilities (49 U.S.C. 60108(a)(2)(D)). The PIPES Act of 2020 also requires those plans to address the replacement or remediation of pipelines that are known to leak due to their material (including cast iron, unprotected steel, wrought iron, and historic plastics with known issues), design, or past operating and maintenance history (49 U.S.C. 60108(a)(2)(E)). In addition, 49 U.S.C. 60108(a)(2) requires that operators continue updating these plans to meet the requirements of any future regulations related to leak detection and repair that are promulgated under 49 U.S.C. 60102(q). Pursuant to the PIPES Act of 2020, operators must have completed updates to their plans by December 27, 2021, and PHMSA (along with our state partners) is required to inspect these plans in 2022.

The PIPES Act of 2020 further directs the Comptroller General of the United States to conduct a study to evaluate the procedures used by PHMSA and states in reviewing plans prepared by pipeline operators under section 60108(a) and provide recommendations for how to further minimize releases of methane from pipeline facilities without compromising pipeline safety. No later than 90 days after the date the Comptroller General's report is published, the Secretary of Transportation is required to submit to Congress a report that includes a response to the results of the study and the recommendations contained in the report.

On June 10, 2021, PHMSA published an advisory bulletin in the Federal Register titled “Statutory Mandate to Update Inspection and Maintenance Plans to Address Eliminating Hazardous Leaks and Minimizing Releases of Natural Gas from Pipeline Facilities” (86 FR 31002) reminding pipeline operators of their obligation to comply with Section 114 of the PIPES Act of 2020 by December 27, 2021. That advisory bulletin reminded owners and operators of pipeline facilities that the PIPES Act of 2020 requires operators to update their inspection and maintenance plans to identify procedures to prevent and mitigate both vented/intentional and fugitive/unintentional pipeline emissions. Vented emissions can occur during repairs, maintenance, or operations of pressure relief systems, or other controlled activities. Fugitive emissions include leaks from mains or service lines, meters, or excavation damage, as well as other accidental releases.

II. Public Webinar Details and Agenda

The public informational webinar will take place on February 17, 2022. During the webinar, PHMSA will review the scope and requirements of Section 114 and plans for PHMSA and state inspection of the requirements. Following opening remarks, the webinar will address the following topics: (1) Key elements of Section 114; (2) Significant sources of natural gas (primarily methane) emissions from pipelines; (3) Discussion of which types of pipeline facilities must comply with each portion of Section 114; (4) PHMSA and state inspections, including reviews of a pipeline operator's programs and procedures to reduce methane emissions; (5) Inspection topics related to methane reduction and leak-prone pipes; (6) General review of how operators' programs and procedures will be inspected; and (7) The timelines for actions required by Section 114.

III. Public Participation

The webinar will be open to the public. Members of the public who wish to attend must register on the meeting website and include their names and organization affiliation. PHMSA is committed to providing all participants with equal access to these meetings. If you need special accommodations, please contact Byron Coy by phone at (609) 771-7810 or via email at byron.coy@dot.gov.

PHMSA is not always able to publish a notice in the Federal Register quickly enough to provide timely notification regarding last minute changes that impact a previously announced meeting. Therefore, individuals should check the meeting website listed in the ADDRESSES section of this notice or contact Byron Coy by phone at (609) 771-7810 or via email at byron.coy@dot.gov regarding any possible changes.

Issued in Washington, DC on January 24, 2022, under authority delegated in 49 CFR 1.97.
Alan K. Mayberry,
Associate Administrator for Pipeline Safety.

[FR Doc. 2022-01596 Filed 1-26-22; 8:45 am]

BILLING CODE 4910-60-P